DEPARTMENT OF JUSTICE

Drug Enforcement Administration

Jason Weakley R.N., A.P.R.N.; Decision and Order

On May 7, 2024, the Drug Enforcement Administration (DEA or Government) issued two Orders to Show Cause (OSCs) to Jason Weakley R.N., A.P.R.N. (Registrant). Request for Final Agency Action dated June 18, 2024 (RFAA1), at 1; Request for Final Agency Action dated June 25, 2024 (RFAA2), at 1; RFAA1, Exhibit (RFAAX1) 1.C, at 1; RFAA2, Exhibit (RFAAX2) 1.B, at 1. One OSC proposed the revocation of Registrant's Certificate of Registration No. MW7073757, alleging that Registrant's registration should be revoked because Registrant is without authority to handle controlled substances in Vermont, the state in which Registrant is registered with DEA under Certificate of Registration No. MW7073757. RFAAX1 1.C, at 2 (citing 21 U.S.C. 824(a)(3)). The other OSC proposed the revocation of Registrant's Certificate of Registration No. MW7551460, alleging that Registrant's registration should be revoked because he is without authority to handle controlled substances in New Hampshire, the state in which he is registered with DEA under Certificate of Registration No. MW7551460. RFAAX2 1.B, at 2 (citing 21 U.S.C. 824(a)(3)).

The OSCs notified Registrant of his right to file with DEA a written request for hearing, and that if he failed to file such a request, he would be deemed to have waived his right to a hearing and be in default. RFAAX1 1.C, at 2 (citing 21 CFR 1301.43); RFAAX2 1.B, at 2 (same). Here, Registrant did not request a hearing regarding either Certificate of Registration. RFAA1, at 2; RFAA2, at 2.¹ “A default, unless excused, shall be deemed to constitute a waiver of the registrant's/applicant's right to a hearing and an admission of the factual allegations of the [OSC].” 21 CFR 1301.43(e).

¹ Based on the Government's submissions in its RFAA1 and RFAA2, the Agency finds that service of the OSCs on Registrant was adequate. Specifically, the submitted Declarations from DEA Diversion Investigators indicate that Registrant was personally served with both OSCs on May 16, 2024. RFAAX1 1, at 2; RFAAX1 1.D; RFAAX2 1, at 2; RFAAX2 1.C.

Further, “[i]n the event that a registrant . . . is deemed to be in default . . . DEA may then file a request for final agency action with the Administrator, along with a record to support its request. In such circumstances, the Administrator may enter a default final order pursuant to [21 CFR] § 1316.67.” Id. § 1301.43(f)(1). Here, regarding both of Registrant's DEA registrations, the Government has requested final agency action based on Registrant's default pursuant to 21 CFR 1301.43(c), (f), 1301.46. RFAA1, at 1; RFAA2, at 1; see also 21 CFR 1316.67.

Findings of Fact

The Agency finds that, in light of Registrant's default, the factual allegations in the OSCs are admitted. According to the OSC regarding Registrant's Vermont-based DEA registration, both Registrant's Vermont registered nurse license and Vermont advanced practice registered nurse licenses are expired and suspended as of January 15, 2024. RFAAX1 1.C, at 2. According to Vermont online records, of which the Agency takes official notice,² Registrant's Vermont registered nurse license and Vermont advanced practice registered nurse licenses remain expired and suspended. Vermont Office of Professional Regulation Find a Professional, https://sos.vermont.gov/opr/find-a-professional (last visited date of signature of this Order).

² Under the Administrative Procedure Act, an agency “may take official notice of facts at any stage in a proceeding—even in the final decision.” United States Department of Justice, Attorney General's Manual on the Administrative Procedure Act 80 (1947) (Wm. W. Gaunt & Sons, Inc., Reprint 1979). Pursuant to 5 U.S.C. 556(e), “[w]hen an agency decision rests on official notice of a material fact not appearing in the evidence in the record, a party is entitled, on timely request, to an opportunity to show the contrary.” Accordingly, Registrant may dispute the Agency's finding by filing a properly supported motion for reconsideration of findings of fact within fifteen calendar days of the date of this Order. Any such motion and response shall be filed and served by email to the other party and to Office of the Administrator, Drug Enforcement Administration at dea.addo.attorneys@dea.gov.

Further, according to the OSC regarding Registrant's New Hampshire-based DEA registration, Registrant's New Hampshire registered nurse license and New Hampshire advanced practice registered nurse license both expired on March 23, 2024. RFAAX2 1.B, at 2. According to New Hampshire online records, of which the Agency takes official notice, Registrant's New Hampshire registered nurse license and New Hampshire advanced practice registered nurse license both remain expired. New Hampshire Online Licensing Person Search, https://forms.nh.gov/licenseverification/Search.aspx (last visited date of signature of this Order).

Accordingly, the Agency finds that Registrant is not licensed to practice as an advanced practice registered nurse in New Hampshire or Vermont, the states in which he is registered with DEA.

Discussion

Pursuant to 21 U.S.C. 824(a)(3), the Attorney General is authorized to suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the state in which a practitioner engages in professional practice is a fundamental condition for obtaining and maintaining a practitioner's registration. Gonzales v. Oregon, 546 U.S. 243, 270 (2006) (“The Attorney General can register a physician to dispense controlled substances `if the applicant is authorized to dispense . . . controlled substances under the laws of the State in which he practices.' . . . The very definition of a `practitioner' eligible to prescribe includes physicians `licensed, registered, or otherwise permitted, by the United States or the jurisdiction in which he practices' to dispense controlled substances. § 802(21).”). The Agency has applied these principles consistently. See, e.g., James L. Hooper, M.D., 76 FR 71371, 71,372 (2011), pet. for rev. denied, 481 F. App'x 826 (4th Cir. 2012); Frederick Marsh Blanton, M.D., 43 FR 27616, 27617 (1978).³

³ This rule derives from the text of two provisions of the Controlled Substances Act (CSA). First, Congress defined the term “practitioner” to mean “a physician . . . or other person licensed, registered, or otherwise permitted, by . . . the jurisdiction in which he practices . . ., to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, DEA has held repeatedly that revocation of a practitioner's registration is the appropriate sanction whenever he is no longer authorized to dispense controlled substances under the laws of the state in which he practices. See, e.g., James L. Hooper, M.D., 76 FR at 71371-72; Sheran Arden Yeates, M.D., 71 FR 39130, 39131 (2006); Dominick A. Ricci, M.D., 58 FR 51104, 51,105 (1993); Bobby Watts, M.D., 53 FR 11919, 11920 (1988); Frederick Marsh Blanton, M.D., 43 FR at 27617.

According to Vermont law, “dispense” means “distribute, leave with, give away, dispose of or deliver” and “prescribe” means “an order for a patient made or given by a practitioner.” Vt. Stat. Ann. tit. 18, sec. 4201.7, 25 (2024). Further, a “practitioner” includes “a physician, dentist, veterinarian, surgeon, or any other person who may be lawfully entitled . . . to distribute, dispense, prescribe, or administer regulated drugs to patients” and a “prescription” means “an order for a regulated drug made by a physician, physician assistant, advanced practice registered nurse, dentist, or veterinarian licensed . . . to prescribe such a drug . . . .” Id. sec. 4201.24, 26.

According to New Hampshire law, “dispense” means “to distribute, leave with, give away, dispose of, deliver, or sell one or more doses of and shall include the transfer of more than a single dose of a medication . . .” and “prescribe” means “order or designate a remedy or any preparation containing controlled drugs.” N.H. Rev. Stat. Ann. sec. 318-B:1 VIII, XXVII (2023). Further, a “practitioner” means “any person who is lawfully entitled to prescribe, administer, dispense or distribute controlled drugs to patients” and a “prescription” means “an oral, written, or facsimile or electronically transmitted order for any controlled drug or preparation issued by a licensed practitioner to be compounded and dispensed by a pharmacist and delivered to a patient for a medicinal or therapeutic purpose arising from a practitioner-patient relationship.” Id. sec. 318-B:1 XXVI, XXVIII.

Here, the undisputed evidence in the record is that Registrant is not currently licensed to practice as an advanced practice registered nurse in either New Hampshire or Vermont. As discussed above, an individual must be a licensed practitioner to handle controlled substances in both New Hampshire and Vermont. Thus, because Registrant lacks authority to practice as an advanced practice registered nurse in both New Hampshire and Vermont and, therefore, is not authorized to handle controlled substances in either New Hampshire or Vermont, Registrant is not eligible to maintain a DEA registration in either jurisdiction. Accordingly, the Agency will order that Registrant's respective DEA registration in each jurisdiction be revoked.

Order

Pursuant to 28 CFR 0.100(b) and the authority vested in me by 21 U.S.C. 824(a), I hereby revoke DEA Certificates of Registration Nos. MW7073757 and MW7551460 issued to Jason Weakley R.N., A.P.R.N. Further, pursuant to 28 CFR 0.100(b) and the authority vested in me by 21 U.S.C. 823(g)(1), I hereby deny any pending applications of Jason Weakley R.N., A.P.R.N., to renew or modify these registrations, as well as any other pending application of Jason Weakley R.N., A.P.R.N., for additional registration in either New Hampshire or Vermont. This Order is effective March 24, 2025.

Signing Authority

This document of the Drug Enforcement Administration was signed on February 13, 2025, by Acting Administrator Derek Maltz. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-02936 Filed 2-20-25; 8:45 am]

BILLING CODE 4410-09-P